COMMITTEE FOR THE IMPLEMENTATION OF TEXTILE AGREEMENTS

Adjustment of Import Limits for Certain Cotton, Wool, Man-Made Fiber, Silk Blend and Other Vegetable Fiber Textiles and Textile Products Produced or Manufactured in the People's Republic of China

October 29, 2002.

AGENCY: Committee for the Implementation of Textile Agreements (CITA).

ACTION: Issuing a directive to the Commissioner of Customs adjusting limits.

EFFECTIVE DATE: November 4, 2002.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being increased for carryforward.

A description of the textile and apparel categories in terms of HTS numbers is available in the CORRELATION: Textile and Apparel Categories with the Harmonized Tariff Schedule of the United States (see Federal Register notice 66 FR 65178, published on December 18, 2001). Also see 66 FR 67229, published on December 28, 2001.

D. Michael Hutchinson,
Acting Chairman, Committee for the Implementation of Textile Agreements.

Committee for the Implementation of Textile Agreements

October 29, 2002.

Commissioner of Customs,

Department of the Treasury, Washington, DC 20229.

Dear Commissioner: This directive amends, but does not cancel, the directive issued to you on December 20, 2001, by the Chairman, Committee for the Implementation of Textile Agreements. That directive concerns imports of certain cotton, wool, man-made fiber, silk blend and other vegetable fiber textiles and textile products, produced or manufactured in China and exported during the twelve-month period which began on January 1, 2002 and extends through December 31, 2002.

Effective on November 4, 2002, you are directed to increase the limits for the following categories, as provided for under the Uruguay Round Agreement on Textiles and Clothing:

Category | Twelve-month limit ¹
Sublevels in Group I |
313 | 48,314,384 square meters.
315 | 144,709,863 square meters.
317/326 | 25,685,147 square meters of which not more than 4,914,073 square meters shall be in Category 326.
334 | 369,582 dozen.
336 | 201,943 dozen.
340 | 863,004 dozen of which not more than 439,094 dozen shall be in Category 340-Z ².
351 | 663,481 dozen.
359-C ³ | 728,105 kilograms.
360 | 9,335,937 numbers of which not more than 6,318,105 numbers shall be in Category 360-P ⁴.
434 | 14,639 dozen.
438 | 28,985 dozen.
443 | 141,613 numbers.
445/446 | 312,118 dozen.
447 | 77,532 dozen.
448 | 24,458 dozen.
615 | 29,424,147 square meters.
617 | 20,558,354 square meters.
634 | 719,118 dozen.
635 | 751,388 dozen.
636 | 616,642 dozen.
640 | 1,489,424 dozen.
641 | 1,402,816 dozen.
645/646 | 885,297 dozen.
651 | 893,144 dozen of which not more than 154,221 dozen shall be in Category 651-B ⁵.
652 | 3,295,329 dozen.
659-H | 3,334,122 kilograms.
666pt. | 449,014 kilograms.
845 | 2,514,179 dozen.
846 | 199,894 dozen.
¹ The limits have not been adjusted to account for any imports exported after December 31, 2001.
² Category 340-Z: only HTS numbers 6205.20.2015, 6205.20.2020, 6205.20.2050 and 6205.20.2060.
³ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010.
⁴ Category 360-P: only HTS numbers 6302.21.3010, 6302.21.5010, 6302.21.7010, 6302.21.9010, 6302.31.3010, 6302.31.5010, 6302.31.7010 and 6302.31.9010.
⁵ Category 651-B: only HTS numbers 6107.22.0015 and 6108.32.0015.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc.02-27979 Filed 11-01-02; 8:45 am]

BILLING CODE 3510-DR-S